DEPARTMENT OF AGRICULTURE

Submission for OMB Review; Comment Request

June 4, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by July 8, 2013 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Economic Assessment of Conservation Reserve Program Lands for Hunting.

OMB Control Number: 0560—NEW.

Summary of Collection: The six components of the North Dakota (ND) and South Dakota (SD) Hunter Expenditure & Valuation Survey are being developed to generate estimates of economic impact of Conservation Reserve Program (CRP) on the outdoor recreational sector and important benefits from improved wildlife habitat. The survey components will examine waterfowl hunting, upland game hunting, and deer hunting in North Dakota and waterfowl hunting, upland game hunting, and deer hunting in South Dakota. The economic impacts estimates from the survey will be used to improve conservation performance measures used in future Farm Service Agency (FSA) Strategic Plans. The authority to conduct a survey is contained in the Commodity Credit Corporation (CCC) Charter Act (15 U.S.C. 714), as amended.

Need and Use of the Information: FSA has determined that the only way to get the economic impact and valuation of hunter use of lands enrolled in CRP is by surveying licensed deer, upland game, and waterfowl hunters. The ND and SD Hunter Expenditure and Valuation Survey will be mailed to licensed deer, upland game bird and waterfowl hunter in ND and SD.

The information gathered from this survey will be used to develop estimates of recreation services provided by hunting in North Dakota and South Dakota. Without data on hunter use and expenditures, the economic contribution generated by the federal investment in CRP cannot be reliability estimated.

Description of Respondents: Individuals or households.

Number of Respondents: 6,000.

Frequency of Responses: Reporting: Other (one-time).

Total Burden Hours: 1,500.

Farm Service Agency

Title: On-line Registration for FSA-sponsored Events and Conferences.

OMB Control Number: 0560-0226.

Summary of Collection: The collect of information is necessary for people to register on-line to make payment and reservation to attend Farm Service Agency (FSA) sponsored events and conferences. The respondents will need to submit the information on-line to pay and to make reservation prior to attending any conferences and events. Respondents that do not have access to the Internet can register by mail or fax.

Need and Use of the Information: FSA will collect the name, organization, organizations address, country, phone number, State, payment options and special accommodations from respondents. FSA will use the information to get payment, confirm and make hotel and other necessary arrangement for the respondents.

Description of Respondents: Individuals or households; Farms: Business or other for-profit; Federal government, Not-for-profit institutions; State, Local or Tribal Government.

Number of Respondents: 900.

Frequency of Responses: Reporting: On occasion.

Total Burden Hours: 225.

Ruth Brown,
Departmental Information Collection Clearance Officer.

[FR Doc. 2013-13573 Filed 6-6-13; 8:45 am]

BILLING CODE 3410-05-P